DEPARTMENT OF HEALTH AND HUMAN SERVICES

Centers for Disease Control and Prevention

[60Day-03-71]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210. CDC is requesting an emergency clearance for this data collection with a two week public comment period. CDC is requesting OMB approval of this package 7 days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 14 days of this notice.

Proposed Project: Project DIRECT: Phase 2, Evaluation of Impact of Multilevel Community Interventions—New—National Center for Chronic Disease Prevention and Health Promotion (NCCDPHP), Centers for Disease Control and Prevention (CDC). Project DIRECT (Diabetes Intervention Reaching and Educating Communities Together) is the first comprehensive community based project in the United States to address the growing burden of diabetes in African Americans. The goal of the project is to use existing knowledge of diabetes risk factors and complications to implement community level interventions to reduce the prevalence and severity of diabetes in communities with large African American populations. A community in Raleigh, North Carolina was selected as the demonstration site for the project. An area in Greensboro, NC, was identified as a suitable comparison community. The Division of Diabetes Translation (DDT) at the Centers for Disease Control and Prevention (CDC) is collaborating with the state of North Carolina to implement and evaluate public health strategies for reducing the burden of diabetes in this predominately African American community.

Project DIRECT has three distinct intervention components—Health Promotion, Outreach, and Diabetes Care. The goals of all three interventions are to reduce or prevent diabetes and its complications, but each has a different but complimentary approach.

Project DIRECT implemented a baseline population-based survey in 1996-1997. Interventions have been employed since then and continue to the present. A follow-up study is now required to evaluate the impact of this multilevel approach to diabetes prevention and control. Data from this project will be critical to the Division of Diabetes Translation's on-going efforts to reduce the burden of diabetes, and to determine whether a similar program could be implemented successfully in other communities. A pre-post design was selected for the evaluation to determine if any changes observed for these outcomes might be attributed to the interventions used in Project DIRECT by comparing changes in the intervention and comparison communities. The baseline study for the pre-post evaluation was conducted during 1996-1997. Households in Raleigh and Greensboro communities would be selected at random using mailing lists. An interviewer will verify the address and do an initial screening for eligible participants in the household. Eligible participants will be asked to participate in the study and will have to complete a consent form. All participants will be asked to complete an interview on their health status and lifestyle and measured for height and weight. Participants who self-report a history of diabetes will be asked additional questions (diabetes module) about their management of diabetes and its complications and other related health conditions.

All participants who self-report a history of diabetes and a sub-sample of those without diabetes would be invited to participate in a household examination that will include blood pressure and waist circumference measurement and a blood draw for laboratory analysis including blood glucose and lipids concentrations. For quality control purposes, a small sample of participants will be asked to do a short telephone interview to verify information collected during the general interview.

The only cost to respondents is their time to participate in the study.

Form | Number of respondents | Responses per respondent | Average burden per response (hours) | Total burden (hours)
Screening Questionnaire | 4,600 | 1 | 5/60 | 383
General Population Questionnaire | 2,603 | 1 | 30/60 | 1,302
Diabetes Module | 565 | 1 | 30/60 | 283
Verification Questionnaire | 1,535 | 1 | 30/60 | 768
Total | 4,600 |  |  | 2,736

Dated: May 28, 2003.
Thomas A. Bartenfeld,
Acting Director, Office of Program Planning and Evaluation, Centers for Disease Control Prevention.

[FR Doc. 03-13786 Filed 6-2-03; 8:45 am]

BILLING CODE 4163-18-P